DEPARTMENT OF COMMERCE

National Oceanic and Atmospheric Administration

Evaluation of National Estuarine Research Reserve; Notice of Public Meeting; Request for Comments

AGENCY: Office for Coastal Management, National Ocean Service, National Oceanic and Atmospheric Administration, Department of Commerce.

ACTION: Notice of public meeting; opportunity to comment.

SUMMARY: The National Oceanic and Atmospheric Administration's (NOAA's) Office for Coastal Management will hold an in-person public meeting to solicit input on the performance evaluation of the Rookery Bay National Estuarine Research Reserve. NOAA also invites the public to submit written comments.

DATES: NOAA will hold an in-person public meeting at 5 p.m. Eastern Time (ET) on Tuesday, June 10, 2025. NOAA may close the meeting 10 minutes after the conclusion of public testimony and after responding to any clarifying questions from meeting participants. NOAA will consider all relevant written comments received by Friday, June 20, 2025.

ADDRESSES: Comments may be submitted by one of the following methods:

• In-Person Public Meeting: Provide oral comments during the in-person public meeting on Tuesday, June 10, 2025, at 5 p.m. Eastern Time (ET) at Rookery Bay Environmental Learning Center, 300 Tower Road, Naples, Florida 34113.

• Email: Send written comments to Susie Holst Rice, Evaluator, NOAA Office for Coastal Management, at czma.evaluations@noaa.gov. Include “Comments on Performance Evaluation of Rookery Bay Reserve” in the subject line. NOAA will accept anonymous comments; however, all comments NOAA receives are a part of the public record, and the entirety of the comment, including the name of the commenter, email address, attachments, and other supporting materials, will be publicly accessible. Do not submit confidential business information or otherwise sensitive or personally identifiable information, such as account numbers and Social Security numbers. Comments that are not related to the performance evaluation of the Rookery Bay National Estuarine Research Reserve or that contain profanity, vulgarity, threats, or other inappropriate language will not be considered.

FOR FURTHER INFORMATION CONTACT: Susie Holst Rice, Evaluator, NOAA Office for Coastal Management, by email at Susie.Holst@noaa.gov or by phone at (978) 225-3420. Copies of the previous evaluation findings, reserve management plan, and reserve site profile may be viewed and downloaded at https://coast.noaa.gov/czm/evaluations/. A copy of the evaluation notification letter and most recent progress report may be obtained upon request by contacting Susie Holst Rice.

SUPPLEMENTARY INFORMATION: Section 315(f) of the Coastal Zone Management Act (CZMA) requires NOAA to conduct periodic evaluations of federally approved national estuarine research reserves. The evaluation process includes holding one or more public meetings, considering public comments, and consulting with interested federal, state, and local agencies and members of the public. During the evaluation, NOAA will consider the extent to which the Florida Department of Environmental Protection has met the national objectives and has adhered to the management plan approved by the Secretary of Commerce, the requirements of section 315 of the CZMA, and the terms of financial assistance under the CZMA. When the evaluation is complete, NOAA's Office for Coastal Management will place a notice in the Federal Register announcing the availability of the final evaluation findings.

Authority: 16 U.S.C. 1461.

Keelin Kuipers,
Deputy Director, Office for Coastal Management, National Ocean Service, National Oceanic and Atmospheric Administration.

[FR Doc. 2025-07190 Filed 4-24-25; 8:45 am]

BILLING CODE 3510-08-P